DEPARTMENT OF COMMERCE

National Oceanic and Atmospheric Administration

[I.D. 121300B]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Shrimp Advisory Panel (AP).

DATES: The Shrimp AP meeting is scheduled to begin at 8:30 a.m. on Monday, January 8, 2001.

ADDRESSES: The meeting will be held at the at the Imperial Palace Hotel 850 Bayview, Biloxi, MS 39530; telephone: 228-436-3000.

Council address: Gulf of Mexico Fishery Management Council, 3018 U.S. Highway 301 North, Suite 1000, Tampa, FL 33619.

FOR FURTHER INFORMATION CONTACT: Dr. Richard Leard, Senior Fishery Biologist, Gulf of Mexico Fishery Management Council, 3018 U.S. Highway 301 North, Suite 1000, Tampa, FL 33619; telephone: 813-228-2815.

SUPPLEMENTARY INFORMATION: The Shrimp AP will convene to review a revision to Draft Amendment 11 to the Shrimp Fishery Management Plan (FMP) that provides revised alternatives for registrations of shrimp craft and additional analyses of impacts of permitting and registration alternatives. The Shrimp AP will also review an Options Paper for Amendment 10 to the Shrimp FMP that includes alternatives for additional bycatch measures in the Gulf. Finally, the Shrimp AP will receive reports from NMFS on the status and health of shrimp stocks in the Gulf and the effects of the 2000 Cooperative Shrimp Closure with the state of Texas. The Shrimp AP may make recommendations for a cooperative closure with Texas for 2001.

The Shrimp AP consists principally of commercial shrimp fishermen, dealers, and association representatives.

Although other non-emergency issues not on the agendas may come before the AP for discussion, in accordance with the Magnuson-Stevens Fishery Conservation and Management Act, those issues may not be the subject of formal action during these meetings. Actions of the AP will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by January 2, 2001.

Dated: December 14, 2000.
Richard W. Surdi,
Acting Director, Office of Sustainable Fisheries, National Marine Fisheries Service.

[FR Doc. 00-32423 Filed 12-19-00; 8:45 am]

BILLING CODE 3510-22-S